DEPARTMENT OF TRANSPORTATION

Federal Aviation Administration

14 CFR Part 39

[Docket No. FAA-2014-0589; Directorate Identifier 2014-NM-069-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A318-111 and -112 airplanes, Model A319, A320, and A321 series airplanes. This proposed AD was prompted by reports of cracks on the forward corner fittings of engine pylon aft secondary structures. This proposed AD would require repetitive inspections of certain forward corner fittings of the pylon aft secondary structures, and corrective actions if necessary. This proposed AD also provides optional terminating action for the repetitive inspections. We are proposing this AD to detect and correct detachment of the lower fairing attachment and/or loss of the aft fixed fairing with the movable fairing from the airplane in flight, which could result in damage to the airplane.

DATES: We must receive comments on this proposed AD by October 20, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0589; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2014-0589; Directorate Identifier 2014-NM-069-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2014-0064, dated March 14, 2014 (referred to after this as the Mandatory Continuing Airworthiness Information, or “the MCAI”), to correct an unsafe condition for certain Model A318-111 and -112 airplanes, Model A319 series airplanes, Model A320 series airplanes, and Model A321 series airplanes. The MCAI states:

Several operators of A320 family aeroplanes have reported finding cracks on the forward corner fittings of engine pylon aft secondary structures, on the lateral face (lateral panel side). In some cases, these cracks had propagated onto the forward face (Rib 11 side). Investigation results have highlighted that these cracks are initiated by stress corrosion.

This condition, if not detected and corrected, could lead to loss (i.e. detachment from the aeroplane) of the lower fairing attachment at Rib 10, and/or loss of the aft fixed fairing with the movable fairing, possibly resulting in * * * [damage to the airplane].

For the reasons described above, this [EASA] AD requires repetitive detailed inspections (DI) of the right hand (RH) Part Number (P/N) D54530014201 and left hand (LH) P/N D54530014200 corner fittings of engine pylon aft secondary structures (pre-mod 38067 or pre-Airbus Service Bulletin (SB) A320-54-1019) to detect cracks or deformation in the splicing area with corner fitting between Ribs 11-12 and, depending on findings, replacement of the corner fittings.

This [EASA] AD also recognizes that replacement of the corner fittings with improved parts (as per Airbus SB A320-54-1019) constitutes a terminating action for the repetitive DI required by this [EASA] AD.

You may examine the MCAI in the AD docket on the Internet at http://www.regulations.gov by searching for and locating Docket No. FAA-2014-0589.

Relevant Service Information

Airbus has issued Service Bulletin A320-54-1019, Revision 01, dated April 10, 2008; and Service Bulletin A320-54-1022, Revision 02, dated July 12, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 851 airplanes of U.S. registry.

We also estimate that it would take about 30 work-hours per product to comply with the basic requirements of this proposed AD. The average labor rate is $85 per work-hour. Based on these figures, we estimate the cost of this proposed AD on U.S. operators to be $2,170,050, or $2,550 per product.

In addition, we estimate the optional terminating modification would take about 60 work-hours and require parts costing about $932 per product, for a cost of $6,032 per product.

We have received no definitive data that would enable us to provide cost estimates for the on-condition actions specified in this proposed AD.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Airbus: Docket No. FAA-2014-0589; Directorate Identifier 2014-NM-069-AD.

(a) Comments Due Date

We must receive comments by October 20, 2014.

(b) Affected ADs

None.

(c) Applicability

This AD applies to the Airbus airplanes identified in paragraphs (c)(1) through (c)(4) of this AD, certificated in any category, except for airplanes on which Airbus Modification 33844, or Modification 33847, as applicable, has been embodied in production.

(1) Airbus Model A318-111 and -112 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 54, Nacelles/pylons.

(e) Reason

This AD was prompted by reports of cracks on the forward corner fittings of engine pylon aft secondary structures. We are issuing this AD to detect and correct detachment of the lower fairing attachment and/or loss of the aft fixed fairing with the movable fairing from the airplane in flight, which could result in damage to the airplane.

(f) Compliance

Comply with this AD within the compliance times specified, unless already done.

(g) Repetitive Inspections

At the latest of the times specified in paragraphs (g)(1), (g)(2), and (g)(3) of this AD: Do a detailed inspection for cracking of forward corner fittings having part number (P/N) D54530014201 (right-hand (RH)) andP/N D54530014200 (left-hand (LH)) of the pylon aft secondary structures, in accordance with the Accomplishment Instructions of Airbus Service Bulletin A320-54-1022, Revision 02, dated July 12, 2013, except as provided by paragraph (j) of this AD. Repeat the inspection thereafter at intervals not to exceed 15,000 flight cycles or 22,500 flight hours, whichever occurs first. Accomplishment of the actions required by paragraph (i) of this AD terminates the actions required by this paragraph.

(1) Within 15,000 flight cycles or 22,500 flight hours, whichever occurs first since first flight of the airplane.

(2) Within 5,000 flight cycles or 7,500 flight hours after the effective date of this AD, without exceeding 40,750 flight cycles or 60,750 flight hours, whichever occurs first since first flight of the airplane.

(3) Within 750 flight cycles or 750 flight hours, whichever occurs first after the effective date of this AD.

(h) Related Investigative and Corrective Actions

If any crack is found on the corner fittings of a pylon during any inspection required by paragraph (g) of this AD: Before further flight, do a detailed inspection for cracking of the lower and medium spars, in accordance with the Accomplishment Instructions of Airbus Service Bulletin A320-54-1022, Revision 02, dated July 12, 2013.

(1) If any damage is found: Before further flight, repair using a method approved by the Manager, International Branch, ANM-116, Transport Airplane Directorate, FAA; or the European Aviation Safety Agency (EASA); or Airbus's EASA Design Organization Approval (DOA).

(2) If no damage is found: Within 5,000 flight cycles or 7,500 flight hours, whichever occurs first after the detailed inspection specified in paragraph (h) of this AD, modify the airplane, in accordance with the Accomplishment Instructions of Service Bulletin A320-54-1019, Revision 01, dated April 10, 2008.

(i) Optional Terminating Action

Modification of an airplane by installation of corner fittings having P/N D0041092120000 RH and P/N D0041092120100 LH on both pylons, in accordance with the Accomplishment Instructions of Airbus Service Bulletin A320-54-1019, Revision 01, dated April 10, 2008, constitutes terminating action for the repetitive inspections required by paragraph (g) of this AD.

(j) Parts Installation Exception

Airplanes on which Airbus Modification 38067 (installation of new corner fittings) has been embodied in production, and airplanes already modified in service as described in Airbus Service Bulletin A320-54-1019, are not affected by the requirements of paragraph (g) of this AD, provided that no corner fittings having P/N D54530014201 RH orP/N D54530014200 LH have been installed since first flight of the airplane, or since modification, as applicable.

(k) Parts Installation Prohibition

(1) As of the effective date of this AD, for airplanes on which Airbus Modification 38067 has been embodied in production on both pylons, and for airplanes previously modified in service as described in Airbus Service Bulletin A320-54-1019: Do not install any corner fittings having P/N D54530014201 RH or P/N D54530014200 LH.

(2) After modification as required by paragraph (h) of this AD, or after optional modification as specified in paragraph (i) of this AD, as applicable: Do not install any corner fittings having P/N D54530014201 RH or P/N D54530014200 LH.

(l) Credit for Previous Actions

This paragraph provides credit for actions required by paragraphs (g) and (h) of this AD, if those actions were performed before the effective date of this AD using Airbus Service Bulletin A320-54-1022, dated July 7, 2009; or Airbus Service Bulletin A320-54-1022, Revision 01, dated September 29, 2011; which are not incorporated by reference in this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(n) Related Information

(1) Refer to Mandatory Continuing Airworthiness Information (MCAI) EASA Airworthiness Directive 2014-0064, dated March 14, 2014, for related information. This MCAI may be found in the AD docket on the Internet at http://www.regulations.gov by searching for and locating Docket No. FAA-2014-0589.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on August 22, 2014.
Kevin Hull,
Acting Manager, Transport Airplane Directorate, Aircraft Certification Service.

[FR Doc. 2014-20937 Filed 9-2-14; 8:45 am]

BILLING CODE 4910-13-P